DEPARTMENT OF AGRICULTURE

Food and Nutrition Service

Submission for OMB Review; Comment Request

June 22, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by July 27, 2016 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Community Eligibility Provision Characteristics Study (CEP).

OMB Control Number: 0584-NEW.

Summary of Collection: Section 104(a) of the Healthy Hunger-Free Kids Act of 2010 (Pub. L. 111-296) amended section 11(a) (1) of the Richard B. Russell National School Lunch Act (42 U.S.C. 1759a(a)(1)(the law) to provide an alternative to household applications for free and reduced- price meals in high poverty local education agencies (LEAs) and schools. This alternative is referred to as the Community Eligibility Provision (CEP). In accordance with the law, CEP was phased in over a period of several years. CEP became available nationwide to all eligible LEAs and schools beginning July 1, 2014. The objective of the study is to examine operational issues and perceived incentives and barriers for adopting CEP as well as the impacts on National School Lunch Programs and School Breakfast Program participation and per meal revenues.

Need and Use of the Information: This study is necessary to implement section 28(a)(1) of the Richard B. Russell National School Lunch Act. This legislation directs the U.S. Department of Agriculture to carry out annual national performance assessments of the School Breakfast Program and the National School Lunch Programs. With the expansion of CEP nationwide, the CEP Characteristics Study will include surveys of nationally representative samples of participating and eligible non-participating LEAs to obtain updated information on the characteristics of participating and non-participating districts and schools. It will also examine CEP impacts on student participation and per meal revenue.

Description of Respondents: State, Local, or Tribal Government.

Number of Respondents: 1,029.

Frequency of Responses: Reporting: One time.

Total Burden Hours: 1,621.

Food and Nutrition Service

Title: Special Nutrition Programs Quick Response Surveys.

OMB Control Number: 0584-NEW.

Summary of Collection: This is a new generic clearance that will allow the Food and Nutrition Service (FNS) to quickly collect and analyze specific information from State and local administrators of the Special Nutrition Programs (SNP), including the Special Supplemental Nutrition Program for Women, Infants, and Children, National School Lunch Program, School Breakfast Program, Summer Food Service Program, the Child and Adult Care Food Program, Fresh Fruit and Vegetable Program, Food Distribution on Indian Reservation, Commodity Supplemental Food Program, and the Emergency Food Assistance Program. Currently, FNS conducts lengthy, large, and complex studies on broad topics about each SNP, which often take several years to complete. The Quick Response Surveys will provide a new mechanism for succinct, quick-turnaround studies to complement the larger SNP studies. This generic clearance will enable FNS to administer the SNPs more effectively by providing a mechanism for rapidly collecting current information on specific time-sensitive features or issues. The surveys submitted under this generic clearance will be voluntary surveys.

Need and Use of the Information: The surveys submitted under this generic clearance will collect information from key administrators of the SNPs at the State, local, and site level in response to various program and research questions resulting from the larger and more complex SNP studies. The data collected from these quick turnaround studies will be used to answer policy and implementation questions posed by the larger studies and will enable FNS to monitor program funding, comply with statutes and regulations, and adopt program changes.

Please note that in the 60-day Federal Register Notice published on November 20, 2015, the estimated burden for this collection was calculated on an annual basis and did not include estimates for the three-year approval period. This notice reports the total burden hours for the three year approval.

Description of Respondents: Not-for profit institutions and State, Local, or Tribal Government.

Number of Respondents: 110,403.

Frequency of Responses: Reporting: On Occasion.

Total Burden Hours: 34,638.

Food and Nutrition Service

Title: Generic Clearance to Conduct Formative Research.

OMB Control Number: 0584-0524.

Summary of Collection: This information collection is based on section 19 of the Child Nutrition Act of 1966 (42 U.S.C. 1787), section 5 of the Richard B. Russell National School Lunch Act (42 U.S.C. 1754) and section 11(f) of the Food and Nutrition Act of 2008 (7 U.S.C. 2020). This information collection will conduct research in support of FNS' goal of delivering science-based nutrition education to targeted audiences. From development through testing of materials and tools with the target audience, FNS plans to conduct data collections that involve formative research including focus groups, interviews (dyad, triad, telephone, etc.), surveys and Web-based collection tools.

Need and Use of the Information: Obtaining formative input and feedback is fundamental to FNS' success in delivering science- based nutrition messages and reaching diverse segments of the population in ways that are meaningful and relevant. This includes conferring with the target audience, individuals who serve the target audience, and key stakeholders on the communication strategies and interventions that will be developed and on the delivery approaches that will be used to reach consumers. The formative research and testing activities described will help in the development of effective education and promotion tools and communication strategies. Collection of this information will increase FNS' ability to formulate nutrition education interventions that resonate with the intended target population, in particular low-income families.

Description of Respondents: Individuals or households; Not for-profit institutions; Farms; State, Local or Tribal Government.

Number of Respondents: 113,775.

Frequency of Responses: Reporting: On occasion.

Total Burden Hours: 43,803.

Food and Nutrition Service

Title: Food Program Reporting System (FPRS).

OMB Control Number: 0584-0594.

Summary of Collection: The Food and Nutrition Service (FNS) is consolidating certain programmatic and financial data reporting requirements under the Food Programs Reporting System (FPRS), an electronic reporting system. The purpose is to give State agencies and Indian Tribal Organization (ITO) agencies one portal for the various reporting required for the programs that the State and ITO agencies operate.

Need and Use of the Information: The data collected will be used for a variety of purposes, mainly program evaluation, planning, audits, funding, research, regulatory compliance and general statistics. The data is gathered at various times, ranging from monthly, quarterly, annual or final submissions. Without the information, FNS would be unable to meet its legislative and regulatory reporting requirements for the affected programs.

Description of Respondents: State, Local or Tribal Government.

Number of Respondents: 5,095.

Frequency of Responses: Reporting: Quarterly, Semi-annually, Monthly; Annually.

Total Burden Hours: 104,556.

Ruth Brown,
Departmental Information Collection Clearance Officer.

[FR Doc. 2016-15089 Filed 6-24-16; 8:45 am]

BILLING CODE 3410-30-P